DEPARTMENT OF ENERGY

Federal Energy Regulatory Commission

[Project No. 6623-011]

Idarado Mining Company, Newmont Mining Corporation; Notice of Transfer of Exemption

1. By letter filed December 12, 2010, Idarado Mining Company and Newmont Mining Corporation informed the Commission that the exemption from licensing for the Bridal Veil Falls Project No. 6623, originally issued August 3, 1989,¹ has been transferred to Newmont Mining Corporation. The project is located on Bridal Veil Creek in San Miguel County, Colorado. The transfer of an exemption does not require Commission approval.

¹ Order Accepting Settlement Agreement and Granting Exemption from Licensing (5MW or less), (48 FERC ¶ 61,188).

2. Newmont Mining Corporation is now the exemptee of the Bridal Veil Falls Project, No. 6623. All correspondence should be forwarded to: Mr. Lawrence E. Fiske, Newmont Mining Corporation, 6363 South Fiddler's Green Circle, Suite 800, Greenwood Village, CO 80111.

Dated: November 12, 2015.
Nathaniel J. Davis, Sr.,
Deputy Secretary.

[FR Doc. 2015-29508 Filed 11-18-15; 8:45 am]

BILLING CODE 6717-01-P